DEPARTMENT OF DEFENSE

Department of the Army; Corps of Engineers

Intent To Prepare an Environmental Impact Statement for Proposed Wharf Improvements and Fill at Apra Harbor, GU

AGENCY: Department of the Army; U.S. Army Corps of Engineers, DoD.

ACTION: Notice of intent.

SUMMARY: Pursuant to section 102(2)(c) of the National Environmental Policy Act (NEPA) of 1969 as implemented by the Council on Environmental Quality (CEQ) regulations (40 CFR parts 1500-1508), the Port Authority of Guam and the U.S. Army Corps of Engineers hereby give notice of intent to prepare a Environmental Impact Statement (EIS) for proposed wharf improvements and fill at Apra Harbor, Guam.

Under a Federal grant from the U.S. Department of Commerce Economic Development Administration, the Port Authority of Guam is proposing modifications to Apra Harbor for the purpose of improving maritime access and services to the island of Guam. The harbor is in need of improvements to meet anticipated future demands of the island's commercial port operations by providing additional cargo container storage area, and berthing facilities capable of accommodating the newest generation of large deep draft container vessels, and cruise ships. The proposed improvements would also provide contingency berthing facilities for U.S. Navy military vessels.

The U.S. Army Corps of Engineers will be the lead agency in preparing the EIS. The EIS will provide an analysis of potential impacts to the environment from the proposed modifications to Apra Harbor, in compliance with NEPA and CEQ regulations.

DATES: In order to be considered in the draft EIS, comments and suggestions should be received no later than June 1, 2005.

ADDRESSES: Send written comments to U.S. Army Corps of Engineers, Honolulu District, ATTN: Mr. James Hatashima, Project Manager, Civil and Public Works Branch (CEPOH-PP-C), Rm. 312, Bldg. 230, Fort Shafter, HI 96858-5440.

FOR FURTHER INFORMATION CONTACT: Questions or comments concerning the proposed action should be addressed to Mr. James Hatashima, Phone: (808) 438-2264, e-mail: james.k.hatashima@usace.army.mil.

SUPPLEMENTARY INFORMATION: Apra Harbor is the commercial hub of Guam, handling both containerized and conventional cargo from around the world. The harbor is located near the center of the western coast of Guam. It is a natural harbor, protected by Orote Peninsula to the south and Cabras Island to the north. Proposed modifications would occur within outer Apra Harbor along the presently undeveloped, southern face of the Glass Breakwater, located west of Wharf F-2 on Cabras Island. The proposed improvements would provide additional berthing area and increased landside capacity for commercial port cargo storage and handling operations.

Proposed Action—Harbor improvements under consideration include: (1) Construction of a new 1,500-foot wharf to the east of Hotel Wharf. Improvements may include construction of a cellular sheet pile bulkhead, deposition of approximately 950,000 cubic yards of fill material in Apra Harbor, and construction of mechanized cargo container handling facilities; (2) Placement of approximately 500,000 cubic yards of fill over 18 acres of submerged lands in three areas along the east end of the Glass Breakwater. Improvements may also include construction of rock revetments, and construction of cargo container storage yard facilities; (3) Dredging of submerged lands to depths of 55 to 60 feet in waters adjacent to the proposed 1,500-foot wharf to accommodate larger deep draft commercial and military vessels.

Project Alternatives—Alternatives to be considered include: (1) “No Action”. No improvements would be undertaken and existing port facilities within Apra Harbor would remain unchanged; (2) Alternate designs, and construction methods; (3) Alternate sources and types of fill material (4) Dredge material disposal alternatives.

To provide a forum for the public to obtain information on the project, the Port Authority of Guam and the U.S. Army Corps of Engineers will hold a public scooping meeting on or about February 2005. The purpose of the scoping meeting is to present information and solicit public input, in the form of oral and written comments, on the proposed action and alternatives under consideration. Interested agencies, organizations, and individuals are invited to attend and participate in the scoping meeting to help determine the range of issues and alternatives to be addressed in the EIS. The date, time, and location of the scoping meeting will be publicly announced.

The draft EIS is anticipated to be available for public review in November 2005, and a public meeting will beheld after publication of the draft EIS. The date, time, and location of the meeting will be publicly announced.

Brenda S. Bowen,
Army Federal Register Liaison Officer.

[FR Doc. 05-1914 Filed 2-1-05; 8:45 am]

BILLING CODE 3710-N$-M